DEPARTMENT OF THE INTERIOR

Bureau of Land Management

[CO-200-1220-DA]

Notice of Intent To Prepare the Fourmile Travel Management Plan and Amend the Royal Gorge Resource Management Plan

AGENCY: Bureau of Land Management, Interior.

ACTION: Notice of Intent to prepare an amendment to the Royal Gorge Resource Management Plan, and prepare an Environmental Assessment (EA).

SUMMARY: The Bureau of Land Management (BLM) announces the initiation of a Resource Management Plan (RMP) amendment for the Fourmile Travel Management Plan, pursuant to the BLM planning regulations in 43 CFR part 1600. This travel management planning is being done in cooperation with the U.S. Forest Service, Pike & San Isabel National Forest, Salida Ranger District, which is proposing similar measures on National Forest lands. The Travel Management Plan will convert BLM's current Off-Highway Vehicle (OHV) designation of “limited to existing roads and trails” to one of “limited to designated roads and trails”. The EA, to be jointly prepared by BLM and USFS, will analyze the impacts of the change in OHV designation and management.

DATES: A public scoping meeting was held on March 23, 2000 that gave the public an opportunity to identify issues and concerns to be addressed in the plan amendment and EA. Comments will be accepted until October 15, 2000.

ADDRESSES: If you wish to comment, request additional information or request to be put on the mailing list, you may do so by any of several methods. You may mail or hand deliver your comments or requests to: U.S. Forest Service, Salida Ranger District, 325 W. Rainbow Blvd., Salida, CO 81201. You may also comment via email to: RGFOWEB@blm.gov. Please submit email comments as an ASCII file avoiding the use of special characters and any form of encryption. Please also include your name and address in your email message. The address and telephone number of the administering BLM office is: Royal Gorge Field Office, Bureau of Land Management, 3170 E. Main Street, Canon City, CO 81212; 719-269-8500.

Comments, including names and addresses of respondents, will be available for public review at the U.S. Forest Service, Salida Ranger District, 325 W. Rainbow Blvd., Salida, CO during regular business hours. Individual respondents may request confidentiality. If you wish to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

FOR FURTHER INFORMATION CONTACT: Levi D. Deike, Acting Field Office Manager, at the Royal Gorge Field Office address and phone number listed above.

SUPPLEMENTARY INFORMATION: The planning area involves approximately 103,000 acres, of which 76% are Forest Service lands, 13% BLM lands, with the remainder being state and private lands. The main issues anticipated for this planning effort are: (1) Impacts to water quality; vegetation, including riparian and wetland areas; and soils; and (2) impacts to public land users and adjacent private landowners. The Fourmile Travel Management Plan is being prepared by an interagency interdisciplinary team. The analysis and proposed plan amendment are scheduled for completion in August 2001.

Additional public meetings may be held and a public comment period will be established on the Fourmile Travel Management Plan. Dates and locations of the meetings and the time period for the public comment period will be announced in the local media. The Proposed BLM Plan Amendment will be published during the EA process, and a 30-day protest period will apply to the BLM portion of the Fourmile Travel Management Plan.

Levi D. Deike,
Acting Field Office Manager.

[FR Doc. 00-24920 Filed 9-27-00; 8:45 am]

BILLING CODE 4310-JB-P